DEPARTMENT OF TRANSPORTATION

Federal Highway Administration

Supplemental Draft Environmental Impact Statement (SDEIS): Arkansas River Valley Intermodal FAcilities, Russellville, Arkansas (Pope County)

AGENCY: Federal Highway Administration, DOT.

ACTION: Notice of Intent to Prepare a SDEIs.

SUMMARY: The Federal Highway Administration (FHWA) in a joint venture with the Arkansas State Highway and Transportation Department (AHTD) and the River Valley Regional Intermodal Facilities Authority (RVRIFA), is issuing this notice to advise the public of its intent to prepare a SDEIS for developing a regional intermodal facility in the Arkansas River Valley. The U.S. Army Corps of Engineers (USACE) is functioning as a Cooperating Agency for this project and plans to adopt the River Valley Regional Intermodal Facilities Environmental Impact Statement upon completion. This project is intended to improve regional and national transportation, to serve existing industry, and to provide

FOR FURTHER INFORMATION CONTACT: Mr. Randal Looney, Environmental Specialist, Federal Highway Administration —Arkansas Division Office 700 West Capitol Avenue, Room 3130, Little Rock, AR 72201-3298.

SUPPLEMENTARY INFORMATION: The U.S. Department of Transportation Federal HIghway Administration (FHWA), in cooperation with the Arkansas State Highway and Transportation Department (AHTD) and the River Valley Regional Intermodal Facilities Authority (RVRIFA), intends to prepare a Supplemental Draft Environmental Impact Statement (SDEIS) for the Arkansas River Valley Intermodal Facilities projects. The U.S. Army Corps of Engineers (USACE) will serve as a Cooperating Agency for this project. An SDEIS will be prepared to further refine the Purpose and Need and Alternatives Analysis sections that were presented in the original Draft Environmental Impact Statement (DEIS) approved and released for public review in March 2006. This additional information will be used to ensure that the Purpose and Need for the project is described completely and that the methods and screening criteria used during the alternatives development process to identify all reasonable alternatives for the project are fully explained and disclosed.

The Arkansas River Valley Intermodal Facilities (ARVIF) project is proposed to include access to the national railway grid through the Class I Union Pacific Railroad 9UPRR), possibly through the Class III short line Dardanelle Russellville Railroad (DRRR), and local roadway access to Interstate 40 (I-40) using existing highway connections via State Highway 7 and/or the proposed improved State Highway 247. A slackwater harbor would be constructed along the McClellan-Kerr Arkansas River Navigation System (MKARNS) to connect the intermodal facilities to the U.S. Inland Waterway System. Additional services at the intermodal facility would include on-site rail/truck transfers, truck/water transfers, rail/water transfers, fright tracking, a foreign trade sub-zone, warehousing, distribution, consolidation, just-in-time inventory services, and material storage capabilities.

There are currently three public ports/terminals along the Arkansas segment of the MKARNS located in Pine bluff, Little Rock, and Fort Smith. There are no public use facilities within 30 miles of the study area, however there are three private docks within 30 miles of the study area including the following: Pine Bluff Sand & Gravel, the Port of Dardanelle; and Oakley Port.

The NEPA process to support this intermodal facility was initiated by the development of an Environmental Assessment (EA) with a defined purpose and need and supporting alternatives. The EA was approved for public dissemination by FHWA in November 2002, however it was determined that further study would be required and a Finding of No Significant Impact (FONSI) would not be issued by FHWA for the project. Further study in the subsequent DEIS released for review in March 2006 included a revised purpose and need for the project and a description of proposed reasonable alternatives identified using screening criteria based on social, environmental, and economic impacts of the proposed project. The reasonable alternatives were developed, screened, and carried forward for detailed analysis in the DEIS based on their ability to address the project purpose and need while avoiding adverse impacts to known and sensitive resources. The USACE-Little Rock District plans to adopt the FHWA ARVIF EIS for their portion of the project involving slackwater harbor previously studied under a separate EA/FONSI issued by the USACE-Little Rock District in January 2000. FHWA is considered the Lead Agency for the ARVIF EIS.

Local, State, and Federal Agencies, Native American Tribes, private organizations, citizens, and interest groups will have an opportunity to provide input into the development of the SDEIS and identify any issues that should be addressed. Notices of public meetings or public hearings relating to the SDEIS will be given through various forums providing the time and place of the meeting along with other relevant information. The SDEIS will be available for public and agency review and comment prior to the public hearings.

To ensure that the full range of issues related to this proposed action are identified and taken into account, comments and suggestions are invited from all interested parties. Comments and questions concerning the proposed action and SDEIS should be directed to FHWA at the address provided above.

(Catalog of Federal Domestic Assistance Program Number 20.205, Highway Planning and Construction. The regulations implementing Executive Order 12372 regarding intergovernmental consultation on Federal programs and activities apply to this proposed action.).

Authority: 23 U.S.C. 315; 49 CFR 1.48.

Issued on: June 20th, 2007.
Sandra L. Otto,
Division Administrator, FHWA, Little Rock, Arkansas.

[FR Doc. 07-3198 Filed 6-29-07; 8:45 am]

BILLING CODE 4910-22-M